DEPARTMENT OF DEFENSE

Department of the Army; Corps of Engineers

Inland Waterways Users Board; Meeting

AGENCY: U.S. Army Corps of Engineers, DoD.

ACTION: Notice of open meeting.

SUMMARY: In accordance with 10(a)(2) of the Federal Advisory Committee Act, Public Law (92-463) announcement is made of the next meeting of the Inland Waterways Users Board. The meeting will be held on April 11, 2001, in New Orleans, Louisiana, at the Wyndham Hotel New Orleans at Canal Place, 100 Rue Iberville (Tel. (504) 566-7006). Registration will begin at 7:30 a.m. and the meeting is scheduled to adjourn at 1 p.m. The meeting is open to the public. Any interested person may attend, appear before, or file statements with the committee at the time and in the manner permitted by the committee.

FOR FURTHER INFORMATION CONTACT: Mr. Norman T. Edwards, Headquarters, U.S. Army Corps of Engineers, CECW-PD, 441 G Street, NW., Washington, DC 20314-1000.

SUPPLEMENTARY INFORMATION: None.

Gregory D. Showalter,
Army Federal Register Liaison Officer.

[FR Doc. 01-5534 Filed 3-6-01; 8:45 am]

BILLING CODE 3710-92-M